POSTAL SERVICE

39 CFR Part 111

Submission of Electronic Documentation With Comailed and Copalletized Mailings

AGENCY: Postal Service ™.

ACTION: Proposed rule.

SUMMARY: The Postal Service is proposing to revise Mailing Standards of the United States Postal Service, Domestic Mail Manual (DMM®) 705 and 707 to require mail owners participating in a comailing or copalletization process for letters or flats to provide electronic documentation, through an approved method, to support their contributed mailpieces. The Postal Service also proposes to require comail and copalletization mailers to submit electronic documentation to the USPS® by an approved method.

DATES: Submit comments on or before July 7, 2010.

ADDRESSES: Mail or deliver written comments to the Manager, Mailing Standards, U.S. Postal Service, 475 L'Enfant Plaza, SW., Room 3436, Washington, DC 20260-3436. You may inspect and photocopy all written comments at USPS Headquarters Library, 475 L'Enfant Plaza, SW., 11th Floor North, Washington, DC, between 9 a.m. and 4 p.m., Monday through Friday. E-mail comments, containing the name and address of the commenter, may be sent to: MailingStandards@usps.gov, with a subject line of “EDOC.” Faxed comments are not accepted.

FOR FURTHER INFORMATION CONTACT: David Guinther at 202-268-7769 or Kevin Gunther at 202-268-7208.

SUPPLEMENTARY INFORMATION: Current mailing standards do not require mailers preparing comailed or copalletized mailings, or mailers who contribute mailpieces to a consolidated comail or copalletized mailing, to submit electronic documentation to the USPS. The receipt of electronic documentation, when received prior to USPS acceptance of copalletized mailings, will enhance the electronic visibility of the mailpieces, will result in a reduction in postal handling, and will improve efficiency in the processing of copalletized mailings.

The Postal Service can accept piece-level electronic documentation through either of two methods—Mail.dat® or Mail.XML®. The original container data, included in the Mail.dat or Mail.XML file, permits the tracking of containers from their origin, through the consolidation site, and ultimately into USPS processing. Original container data is also an essential element in the generation of standardized documentation (i.e. qualification reports) and postage statements for comailed or copalletized mailings. Therefore, the Postal Service proposes to require all mailers associated with the preparation and presentation of comailed and copalletized mailings to transmit electronic documentation to the USPS, using properly formatted Mail.dat or Mail.XML files. Electronic postage statements prepared through Postal Wizard will not fulfill the documentation requirement under this proposed rule.

Electronic documentation provided with copalletized mailings may include data for one or multiple mail owners. These standards would require mailers preparing mailings of letter-size pieces in trays, which include pieces to be incorporated within a copalletized mailing, to prepare separate postage statements for the portion of the mailing being accepted at the origin site, and separate statements for the portion being directed to a consolidator. Consolidators preparing copalletized mailings of trays must prepare electronic documentation showing the assignment of the trays with Intelligent Mail® tray labels to pallets bearing Intelligent Mail container placards, as well as the postage statements for payment at the consolidator site. Consolidators of letter-size pieces in trays will also be required to drop ship copalletized mailpieces at the appropriate postal facility in accordance with the entry discount claimed at the origin acceptance location.

Origin mailers preparing mailings of bundles must prepare separate postage statements for the portion of the mailing being accepted at the origin site and provide the documentation for verification for that portion being directed to a consolidator.

In accordance with DMM 705.22.0, Full-Service Automation Option, electronic documentation is currently required with copalletized and other mailings that include full-service Intelligent Mail letters or flats. Mailers who include full-service Intelligent Mail pieces that will later be copalletized must follow all requirements for full-service Intelligent Mail, including the use of an approved electronic method to transmit postage statements and mailing documentation to the USPS, and the use of Intelligent Mail tray labels and container placards.

The Postal Service is also proposing to require Periodicals mailers to submit electronic documentation for each comailed and/or copalletized mailing, identifying each title and version (or edition) in the mailing. For mailings that are entered at origin, and later copalletized at a consolidation site, the mail owner or preparer will be required to submit electronic documentation (Mail.dat or Mail.XML) for the copalletized portion of the mailing. Mailers consolidating multiple mailings on pallets will be required to provide the electronic submission equivalent of the comail (hard copy) documentation requirements of DMM 707.27, Combining Multiple Editions or Publications. For copalletized Periodicals mail, postage statements and payment will be entered at the consolidator's site.

To support the automated electronic tracking of copalletized mailpieces, the electronic documentation submitted at the origin site must indicate which bundles, trays, or sacks will be sent to a consolidator for copalletization. The standardized documentation and postage statements will be available for viewing by acceptance offices when the electronic documentation for the copalletized portion of the mailing job is updated by the consolidator through the original container data. The origin facility will then be required to transmit electronic documentation to the PostalOne!® system before the consolidator's electronic documentation is transmitted to the USPS.

With this change, the consolidator will be responsible for updating the electronic documentation from the mail owner or preparer for that portion of the mailing going to the consolidation site. Mailers consolidating multiple mailings on pallets must use the electronic data received from the creator of the mailing to create new electronic data. This electronic data will then be used to generate the original container data, indicating the origin of the bundles, trays or sacks comprising the copalletized mailing. For mailings of bundles, the electronic data will be used to generate postage statements and payment at the consolidator site.

Additional information concerning the submission of electronic documentation can be obtained from the USPS online publication, A Guide to Intelligent Mail Letters & Flats, at http://ribbs.usps.gov.

We are also proposing to revise portions of DMM 705.8.0, Preparing Pallets, to include reference to the copalletization of letter-size pieces within those sections.

Although we are exempt from the notice and comment requirements of the Administrative Procedure Act [5 U.S.C. of 553(b), (c)] regarding proposed rulemaking by 39 U.S.C. 410(a), we invite public comments on the following proposed revisions to Mailing Standards of the United States Postal Service, Domestic Mail Manual (DMM), incorporated by reference in the Code of Federal Regulations. See 39 CFR Part 111.

List of Subjects in 39 CFR Part 111

Administrative practice and procedure, Postal Service.

Accordingly, 39 CFR Part 111 is proposed to be amended as follows:

PART 111—[AMENDED]

1. The authority citation for 39 CFR Part 111 continues to read as follows:

Authority:

5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

700 Special Standards

* * * * *

705 Advanced Preparation and Special Postage Payment Systems

* * * * *

8.0 Preparing Pallets

* * * * *

[Revise title of 8.7 as follows:]

8.7 Copalletized, Combined, or Mixed-Price Level Palletized Mailings

8.7.1 General

[Revise 8.7.1 as follows:]

Copalletized, combined, or mixed-price level palletized mailings of letter-size or flat-size pieces must be prepared under the standards for the class of mail, subject to specific authorization by Business Mailer Support when required. The following conditions apply when making copalletized mailings:

1. Postage statements and mailing documentation must be transmitted to the USPS using an approved electronic method.

2. In accordance with 708.6.5 and 708.6.6, Intelligent Mail tray labels must be used on trays and sacks and Intelligent Mail container placards must be used on pallets or similar containers.

3. If consolidating multiple mailings on pallets, update the electronic data for each of the original mailings. This updated data must be reflected in the electronic data transmitted to the USPS.

4. Meet postage payment requirements as specified by Business Mailer Support.

* * * * *

8.7.3 Periodicals Publications

[Revise 8.7.3 by adding a new third sentence as follows:]

* * * Postage for copalletized mailings of flat-size Periodicals must be paid at the consolidator's site. * * *

* * * * *

8.7.4 Standard Mail

[Revise the first sentence of 8.7.4 and add a new last sentence as follows:]

To copalletize different Standard Mail letter- or flat-size mailings, the mailer must consolidate on pallets all independently sorted trays or bundles from each mailing to achieve the finest presort level for the mailing, except that a flat-size copalletized mailing prepared under 8.11 or 8.14 using the bundle reallocation option may not always result in all bundles being placed on the finest pallet level possible.* * * Origin mailers participating in a copalletized mailing of Standard Mail letters in trays must prepare a separate postage statement for the portion entered at the origin site and another postage statement for the portion directed to the consolidator.

* * * * *

8.8 Basic Uses

These types of mail may be palletized:

* * * * *

[Revise 8.8 by re-sequencing items f through i as the new g through j and adding a new item f as follows:]

f. Copalletized multiple letter-size mailings, prepared in trays, subject to 8.0.

* * * * *

[Revise title of 8.16 as follows:]

8.16 Copalletized Letter-Size and Flat-size Pieces—Periodicals or Standard Mail

8.16.1 Basic Standards

[Revise 8.16.1 as follows:]

Copalletized letter- and flat-size mailings must meet the applicable standards in 8.0. In addition, if copalletized under 10.0, 12.0, or 13.0, the applicable provisions of that preparation option must also be met. Any combination of automation mailings and nonautomation mailings is subject to the restrictions in 8.14. Trays and bundles in a copalletized mailing qualify for the appropriate presort level price, regardless of the pallet level on which they are placed. Mailers participating in copalletized mailings must:

a. Transmit postage statements and mailing documentation to the USPS using an approved electronic method.

b. In accordance with 708.6.5 and 708.6.6, use Intelligent Mail tray labels on trays and sacks and Intelligent Mail container placards on pallets or similar containers.

c. If consolidating multiple mailings on pallets, update the electronic data for each of the original mailings. This updated data must be reflected in the electronic data transmitted to the USPS by the consolidator.

d. Meet postage payment requirements as specified by Business Mailer Support.

8.16.2 Periodicals

Additional standards are as follows:

* * * * *

[Revise 8.16.2 by adding a new item d as follows:]

d. Postage for copalletized mailings of flat-size Periodicals must be paid at the consolidator's site.

8.16.3 Standard Mail

Additional standards are as follows:

* * * * *

[Revise 8.16.3 by adding a new item f as follows:]

f. Origin mailers participating in a copalletized mailing of Standard Mail letters in trays must prepare a separate postage statement for the portion entered at the origin site and another postage statement for the portion directed to the consolidator.

* * * * *

707 Periodicals

* * * * *

27.0 Combining Multiple Editions or Publications

* * * * *

27.5 Documentation

* * * The following additional standards apply:

[Revise 27.5 by adding a new item c and d as follows:]

c. Unless excepted by Business Mailer Support (BMS), mailers combining Periodicals publications under 27.1a must transmit postage statements and mailing documentation to the USPS using a BMS-approved electronic method.

d. Mailers combining Periodicals publications under 27.1c must transmit postage statements and mailing documentation to the USPS using a BMS-approved electronic method.

[Renumber current 27.6 through 27.8 as new 27.7 through 27.9 and add a new item 27.6 as follows:]

27.6 Additional Standards

Mailers combining Periodicals publications under 27.1a or 27.1c must:

a. Use Intelligent Mail tray labels on trays and sacks and Intelligent Mail container placards, under 708.6.5 and 6.6, on pallets or similar containers.

b. When using a consolidator, prepare a separate postage statement for the portion of the mailing accepted at the origin site and another statement for that portion directed to a consolidator.

c. When using a consolidator under 27.1c, pay postage at the consolidator's site.

d. If consolidating multiple mailings on pallets, update the electronic data for each of the original mailings. This updated data must be reflected in the electronic data transmitted to the USPS.

f. Meet postage payment requirements as specified by Business Mailer Support.

* * * * *

We will publish an appropriate amendment to 39 CFR Part 111 to reflect these changes if our proposal is adopted.

Stanley F. Mires,
Chief Counsel, Legislative.

[FR Doc. 2010-13574 Filed 6-4-10; 8:45 am]

BILLING CODE 7710-12-P